DEPARTMENT OF AGRICULTURE

Grain Inspection, Packers and Stockyards Administration

9 CFR Parts 201 and 203

Update Office of Management and Budget Control Numbers

AGENCY: Grain Inspection, Packers and Stockyards Administration, USDA.

ACTION: Technical amendment.

SUMMARY: In compliance with the Paperwork Reduction Act, this technical amendment revises the control numbers assigned by the Office of Management and Budget approving our information collection activities. The purpose of this action is to update the control numbers in the Code of Federal Regulations. This amendment brings the regulations up to date with the current control numbers.

EFFECTIVE DATE: December 31, 2003.

FOR FURTHER INFORMATION CONTACT: Tess Butler, Regulatory Specialist, USDA GIPSA, (202) 720-7486, 1400 Independence Avenue, SW, Room 1647-S, Washington, DC 20250-3604, or via e-mail at h.tess.butler@usda.gov.

SUPPLEMENTARY INFORMATION: The Grain Inspection, Packers and Stockyards Administration (GIPSA) administers and enforces the Packers and Stockyards Act of 1921, as amended and supplemented (7 U.S.C. 181-229) (P&S Act). The P&S Act prohibits unfair, deceptive, and fraudulent practices by livestock market agencies, dealers, stockyard owners, meat packers, swine contractors, and live poultry dealers in the livestock, poultry, and meatpacking industries.

The P&S Act authorizes information collection for the purpose of enforcing the P&S Act and regulations and to conduct studies as requested by Congress. The information is needed for us to carry out our responsibilities under the P&S Act. The information is necessary to monitor and examine financial, competitive, and trade practices in the livestock, meat packing, and poultry industries.

This amendment corrects the displayed control numbers, as required by the Paperwork Reduction Act (44 U.S.C. 3501-3520) and the Office of Management and Budget (OMB) regulations (5 CFR part 1320). OMB regulations provide options for the display of control numbers to show the OMB approval of information collection activities; we will continue to use the option of displaying the OMB control numbers at the end of each regulation that requires recordkeeping, reporting, or other information collection activity.

The information collection activities approved under OMB control number 0580-0015, are the reporting, recordkeeping, and other information collection requirements in 9 CFR part 201, Regulations Under the Packers and Stockyards Act, and in 9 CFR part 203, Statements of General Policy Under the Packers and Stockyards Act. Formerly, these activities were approved under OMB control number 0590-0001 for the Packers and Stockyards Administration. After GIPSA was established, OMB assigned the new control number. Therefore, occurrences of 0590-0001 in the CFR need to be revised to 0580-0015 to reflect the current OMB control number. In addition, we need to add the current OMB control number at the end of section 201.108-1 of the regulations.

There will be no changes to the regulatory text or any information collection change as a result of this technical amendment. Therefore, we find that it is unnecessary to request comments and believe that there is good cause under 5 U.S.C. 553 (d)(3), to make this amendment to parts 201 and 203 final upon publication in the Federal Register.

Executive Order 12866 and Regulatory Flexibility Act

The Office of Management and Budget (OMB) designated this technical amendment as not significant for the purposes of Executive Order 12866. This technical amendment updates the OMB control numbers published at the end of specific regulations and statements of general policy in the Code of Federal Regulations (CFR) in 9 CFR parts 201 and 203. The information collection requirements approved by OMB under control number 0580-0015 have been previously approved. The current approval expires on September 30, 2004. This technical amendment does not change the information collection requirements.

There will be neither costs imposed by nor benefits resulting from this technical amendment. There are no potential economic effects on small entities. This technical amendment does not make any changes to the projected reporting or recordkeeping burden imposed on small entities. Therefore, as the GIPSA Administrator, I certify that this technical amendment will not significantly impact a substantial number of small entities, as required by the Regulatory Flexibility Act (5 U.S.C. 601-612).

Executive Order 12988

This technical amendment has been reviewed under E.O. 12988, Civil Justice Reform, and is not intended to have retroactive effect. This technical amendment will not pre-empt State or local laws, regulations, or policies unless they present an irreconcilable conflict with this rule. There are no administrative procedures that must be exhausted prior to any judicial challenge to the provisions of this technical amendment.

Paperwork Reduction Act

In accordance with the Paperwork Reduction Act of 1995 (44 U.S.C. 3501-3520), the information collection or recordkeeping requirements included in this technical amendment have been approved by the Office of Management and Budget (OMB) under OMB control number 0580-0018.

GPEA Compliance

GIPSA is committed to compliance with the Government Paperwork Elimination Act (GPEA), which requires Government agencies, in general, to provide the public option of submitting information or transacting business electronically to the maximum extent possible.

List of Subjects

9 CFR Part 201

Confidential business information, Reporting and recordkeeping requirements, Stockyards, Surety bonds, Trade practices.

9 CFR Part 203

Reporting and recordkeeping requirements, Stockyards.

For the reasons set forth above, GIPSA amends 9 CFR Parts 201 and 203 as follows:

PART 201—REGULATIONS UNDER THE PACKERS AND STOCKYARDS ACT

1. The authority citation for part 201 continues to read as follows:

Authority: 7 U.S.C. 222 and 228; 7 CFR 2.22 and 2.81.

§§ 201.10, 201.17, 201.27, 201.28, 201.34, 201.42, 201.43, 201.44, 201.45, 201.56, 201.61, 201.73-1, 201.86, 201.94, 201.95, 201.97, 201.99, 201.100, and 201.200 [Amended]

2. Amend §§ 201.10, 201.17, 201.27, 201.28, 201.34, 201.42, 201.43, 201.44, 201.45, 201.56, 201.61, 201.73-1, 201.86, 201.94, 201.95, 201.97, 201.99, 201.100, and 201.200 by revising the OMB control number citation to read as follows:

“(Approved by the Office of Management and Budget under control number 0580-0015)”

§ 201.108-1 [Amended]

3. Amend § 201.108-1 by adding at the end of the section the following:

“(Approved by the Office of Management and Budget under control number 0580-0015)”

PART 203—STATEMENTS OF GENERAL POLICY UNDER THE PACKERS AND STOCKYARDS ACT

4. Revise the authority citation for part 203 to read as follows:

Authority: 7 CFR 2.22 and 2.81.

§§ 203.4, 203.14, 203.15, 203.16, 203.17, 203.18, and 203.19 [Amended]

5. Amend §§ 203.4, 203.14, 203.15, 203.16, 203.17, 203.18, and 203.19 by revising the OMB control number citation to read as follows:

“(Approved by the Office of Management and Budget under control number 0580-0015)”

JoAnn Waterfield,
Acting Administrator, Grain Inspection, Packers and Stockyards Administration.

[FR Doc. 03-32167 Filed 12-30-03; 8:45 am]

BILLING CODE 3410-EN-P